DEPARTMENT OF THE INTERIOR

Fish and Wildlife Service

[FWS-R4-R-2010-N200; 40136-1265-0000-S3]

Buck Island, Green Cay, and Sandy Point National Wildlife Refuges, U.S. Virgin Islands; Final Comprehensive Conservation Plan and Finding of No Significant Impact for Environmental Assessment

AGENCY: Fish and Wildlife Service, Interior.

ACTION: Notice of availability.

SUMMARY: We, the Fish and Wildlife Service (Service), announce the availability of our final comprehensive conservation plan (CCP) and finding of no significant impact (FONSI) for the environmental assessment for Buck Island, Green Cay, and Sandy Point National Wildlife Refuges (NWRs). In the final CCP, we describe how we will manage these three refuges for the next 15 years.

ADDRESSES: You may obtain a copy of the CCP by writing to: Mr. Mike Evans, Refuge Manager, Sandy Point National Wildlife Refuge, 3013 Estate Golden Rock, Suite 137, Christiansted, VI 00820-4355. The CCP may also be accessed and downloaded from the Service's Web site: http://southeast.fws.gov/planning/ under “Final Documents.”

FOR FURTHER INFORMATION CONTACT: Mr. Mike Evans; telephone: 340/773-4554; e-mail: Michael_Evans@fws.gov.

SUPPLEMENTARY INFORMATION:

Introduction

With this notice, we finalize the CCP process for Buck Island, Green Cay, and Sandy Point NWRs. We started this process through a notice in the Federal Register on March 12, 2007 (72 FR 11046).

All three refuges are located in the United States Virgin Islands. Sandy Point NWR is situated on the southwestern tip of the island of St. Croix. Green Cay NWR is a small island located several hundred yards north of St. Croix, east of the city of Christiansted. Buck Island NWR is situated several miles south of the island of St. Thomas and the city of Charlotte Amalie. These three refuges are part of the Caribbean Islands National Wildlife Refuge Complex.

Sandy Point NWR provides critical nesting habitat for the federally endangered leatherback sea turtle. Its sandy beaches are also used for nesting by the federally endangered hawksbill sea turtle and the federally threatened green sea turtle. These same sea turtle species are also protected under Territory of the U.S. Virgin Islands regulations.

Green Cay NWR was established in 1977 to protect the federally endangered St. Croix ground lizard. This island refuge provides critical habitat for the largest remaining natural population of this species. Its extirpation from the main island of St. Croix, just several hundred yards away, is generally attributed to the modification and loss of shoreline habitat resulting from human activities and the introduction of predators, such as rats, cats, and dogs. The introduction of the exotic Indian mongoose likely completed the elimination of the species from St. Croix proper. As a result, this species is one of the rarest reptiles in the world and is unique to St. Croix island ecosystems. As part of a cooperative effort with the National Park Service, in May 2008, 57 individual St. Croix ground lizards were translocated to Buck Island Reef National Monument, several miles away, in order to establish a fourth population of this highly endangered lizard and thus help secure its survival.

Buck Island NWR was established in 1969. The off-shore islands around St. Thomas support a number of critical seabird and migratory bird roosting, breeding, and nesting sites. Some of these off-shore islands have been impacted by varying degrees of development and habitat alteration, making remaining islands even more critical for use by migratory birds. Although Buck Island NWR's natural plant and wildlife communities have been severely impacted by human activity, the island has major potential for habitat restoration, enhancement and support of migratory bird populations, and maintenance of existing wildlife populations, both endemic and migratory. The refuge is home to two rare reptiles endemic to the “Puerto Rican bank,” the geological area containing Puerto Rico, Culebra, St. Thomas, and the British Virgin Islands—the Antillean skink and Puerto Rican racer. The island also provides nesting or roosting habitat for the magnificent frigatebird, the red-billed tropicbird, and laughing gulls.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We made copies of the Draft CCP/EA available for a 30-day public review period as announced in the Federal Register on September 17, 2009 (74 FR 47815). Two public meetings were held to receive comments on the Draft CCP/EA—one in Charlotte Amalie, St. Thomas, and one in Fredericksted, St. Croix. We received 10 written comments on the Draft CCP/EA.

Selected Alternatives

Sandy Point NWR

We developed four alternatives for managing Sandy Point NWR. After considering the comments we received and based on the professional judgment of the planning team, we selected Alternative D for implementation. While each of the alternatives provided in varying degrees for wildlife, habitat, and public use, Alternative D was more ambitious than Alternative A, while supporting more wildlife and habitat management than Alternative B and more public use than Alternative C.

The overriding concern reflected in the CCP is that wildlife conservation, especially management and protection of endangered sea turtles, assumes first priority in refuge management. Wildlife-dependent recreation uses (e.g., fishing, wildlife observation, wildlife photography, and environmental education and interpretation) will be emphasized and encouraged.

Existing recovery efforts for the endangered leatherback sea turtle will continue. We will pursue hawksbill and green sea turtle recovery by implementing saturation tagging and nest management. We will continue to protect pelican roosting sites and manage least tern nesting sites, aiming to increase the number of nesting least terns. Landbirds, shorebirds, and waterbirds will benefit as well.

We will begin to conduct status surveys for invertebrates and reptile and amphibian species of special concern. The presence or absence of bats will also be surveyed, and we will enhance habitat and install artificial nest structures for bats. Refuge-wide control of non-native flora and fauna to protect indigenous flora and fauna will be carried out as needed.

We will accelerate efforts to restore the structure, function, and diversity of dry forest habitat. We will begin to actively monitor status and trends on the West End Salt Pond (Salt Pond) as they affect mangroves, wetlands, and wildlife habitat. We will not only protect existing stands and specimens of Vahl's boxwood, but will also conduct recovery activities. Furthermore, we will investigate the potential for establishing a Catesbaea melanocarpa population on the refuge. We will actively cooperate with the U.S. Geological Survey and other agencies to develop and implement protocols for monitoring sea level rise and its impacts on habitats.

We will continue to manage and protect cultural resources, particularly the Aklis archaeological site. In addition, we will develop and begin to implement a Cultural Resources Management Plan.

Public use and visitor services will expand somewhat. We will develop an accessible trail and observation deck with expansive views of the Salt Pond. We will aim to develop environmental education and interpretive opportunities around the new refuge headquarters and visitor center to be constructed in the vicinity. We will also allow access to the beach from 10 a.m. to 4 p.m. on weekends, outside of the seasonal closure for leatherback turtle nesting. If staffing permits, we will also provide pedestrian access to the beach during the entire week from 9 a.m. to 5 p.m., outside of the seasonal closure for turtle nesting.

We will continue the existing education and outreach program, such as the turtle watch program, Youth Conservation Corps (YCC) program, periodic news releases, news media interviews, Web site content, school visits, informal contact with refuge visitors, and continuing development of the visitor contact station. Education and outreach efforts will increase. The YCC program will be maintained and expanded in size for two months during the summer. There will be more emphasis on developing partnerships and volunteers.

Green Cay NWR

We developed two alternatives for managing Green Cay NWR. After considering the comments we received and based on the professional judgment of the planning team, we selected Alternative B for implementation. While both alternatives provide for wildlife and habitat, Alternative B will yield greater wildlife and habitat benefits overall than Alternative A, particularly for the St. Croix ground lizard, on whose behalf the refuge was originally established. Alternative B will also offer greater opportunities for the public, even while maintaining the general refuge closure.

We will maintain or expand upon all existing programs. To promote recovery of the endangered St. Croix ground lizard, we will continue existing programs of reforestation, rat and invasive plant control, and population monitoring. We will also maintain closure of the island to public access, to avoid accidental direct mortality and habitat degradation. In addition, we will develop a habitat restoration plan within 3 years, with the aim of improving habitat quality for the ground lizard.

We will also continue management efforts on behalf of nesting and roosting brown pelicans and white-crowned pigeons. We will continue our habitat recovery (reforestation) efforts so as to complete 100 percent of the area intended for reforestation by the end of the 15-year planning period. An important part of accelerating habitat recovery will be to increase the control of invasive plants and invasive animals.

We will continue to protect and manage Green Cay NWR's cultural resources. Also, we will develop and begin to implement a Cultural Resources Management Plan. To conduct outreach and education, we will continue to maintain the refuge Web site, distribute information, maintain signage on the island identifying it as a national wildlife refuge closed to the public, and conduct periodic presentations off-refuge. These efforts will be augmented by installing larger signs that can be seen and read from a greater distance, expanding outreach efforts to nearby hotels, and considering alternatives to visitation within the refuge itself, such as offering or promoting boat and kayak tours around the island.

Buck Island NWR

We developed two alternatives for managing Buck Island NWR. After considering the comments we received and based on the professional judgment of the planning team, we selected Alternative B for implementation. While both alternatives will result in benefits to some extent for wildlife, habitat, and public use, Alternative B is more ambitious than Alternative A, and thus will yield greater benefits for both wildlife and the public. In general, Alternative B maintains and expands upon all programs of Alternative A.

We will strive to provide more active management of the island's indigenous wildlife, particularly species of concern. We will draft and begin implementing an inventorying and monitoring plan for the slipperyback skink, Puerto Rican racer, magnificent frigatebird, and red-billed tropicbird.

We will continue to monitor for rat reinvasions. To pursue and promote habitat recovery on Buck Island NWR, we will develop and begin to implement a Habitat Restoration Plan. We will increase control of invasive plants and animals using appropriate means, and will evaluate the effectiveness of different methods of control.

We will continue to manage cultural resources, particularly the historic lighthouse. However, we will also evaluate the condition and safety of the lighthouse and decide on the feasibility of preservation or restoration. In addition, we will develop and begin to implement a Cultural Resources Management Plan.

With regard to conducting outreach and education, we will continue to maintain the refuge Web site, distribute information, maintain limited signage on the island, and make periodic presentations off-refuge. We will continue to cooperate with the Virgin Islands Department of Planning and Natural Resources on joint wildlife and habitat management efforts for Buck Island and adjacent Capella Island. Also, we will expand cooperative education and interpretive efforts with the city of Charlotte Amalie and ecotourism companies which bring visitors to offshore waters to explore coral reefs. We will also explore the development of a friends group, to provide a more active management presence on the island.

Authority: This notice is published under the authority of the National Wildlife Refuge System Improvement Act of 1997, Pub. L. 105-57.

Dated: October 1, 2010.
Mark J. Musaus,
Acting Regional Director.

Editorial Note: This document was received in the Office of the Federal Register on June 21, 2011.

[FR Doc. 2011-15819 Filed 6-23-11; 8:45 am]

BILLING CODE 4310-55-P